ENVIRONMENTAL PROTECTION AGENCY

40 CFR Part 52

[EPA-R01-OAR-2008-0117; FRL-9908-51-Region 1]

Approval and Promulgation of Air Quality Implementation Plans; Connecticut; Reasonable Further Progress Plan and 2002 Base Year Emission Inventory

AGENCY: Environmental Protection Agency (EPA).

ACTION: Correcting amendments.

SUMMARY: The Environmental Protection Agency (EPA) published a final rule regarding reasonable further progress plans and 2002 base year emission inventories for Connecticut in the Federal Register on August 22, 2012. A duplicate paragraph letter was identified and is corrected in this action.

DATES: This rule is effective on May 12, 2014.

FOR FURTHER INFORMATION CONTACT: Bob McConnell, Air Quality Planning Unit, U.S. Environmental Protection Agency, EPA New England Regional Office, 5 Post Office Square, Suite 100 (mail code: OEP05-2), Boston, MA 02109-3912, telephone number (617) 918-1046, fax number (617) 918-0046, email mcconnell.robert@epa.gov.

SUPPLEMENTARY INFORMATION: In a final rule dated August 22, 2012 (77 FR 50600), § 52.377 was amended by adding paragraph (k). However, a different action published shortly before had already used letter (k). This action corrects that error by inserting the next available paragraph letter (o).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 2, 2014.
H. Curtis Spalding,
Regional Administrator, EPA New England.

Part 52 of chapter I, title 40 of the Code of Federal Regulations, is amended as follows:

PART 52—[AMENDED]

1. The authority citation for part 52 continues to read as follows:

Authority: 42 U.S.C. 7401 et seq.

2. Section 52.377 is amended by adding paragraph (o) to read as follows:

§ 52.377 Control strategy: Ozone.

* * * * *

(o) Revisions to the State Implementation Plan submitted by the Connecticut Department of Environmental Protection on February 1, 2008. These revisions are for the purpose of satisfying the rate of progress requirement of section 182(b)(1) from 2002 through 2008, and the contingency measure requirement of sections 172(c)(9) and of the Clean Air Act, for the Greater Connecticut moderate 8-hour ozone nonattainment area, and the Connecticut portion of the New York-New Jersey-Long Island moderate 8-hour ozone nonattainment area. These revisions establish motor vehicle emission budgets for 2008 of 29.7 tons per day of volatile organic compounds (VOCs) and 60.5 tons per day of nitrogen oxides (NOx) to be used in transportation conformity in the Connecticut portion of the New York-New Jersey-Long Island moderate 8-hour ozone nonattainment area. These revisions also establish motor vehicle emission budgets for 2008 for the Greater Connecticut moderate 8-hour ozone nonattainment area of 28.5 tons per day for VOCs, and 54.3 tons per day for NOx.

[FR Doc. 2014-07731 Filed 4-10-14; 8:45 am]

BILLING CODE 6560-50-P